INTERNATIONAL TRADE COMMISSION

[Investigation No. 337-TA-1202]

Certain Synthetic Roofing Underlayment Products and Components Thereof; Commission Determination Not To Review an Initial Determination Terminating the Investigation as to All Respondents Based on Withdrawal of the Complaint; Termination of Investigation

AGENCY: U.S. International Trade Commission.

ACTION: Notice.

SUMMARY: Notice is hereby given that the U.S. International Trade Commission has determined not to review an initial determination (“ID”) (Order No. 23) of the presiding administrative law judge (“ALJ”) granting complainant's unopposed motion to terminate the above-captioned investigation as to all respondents based on withdrawal of the complaint.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on June 1, 2020, based on a complaint filed by Kirsch Research and Development, LLC (“Kirsch”) of Simi Valley, California. 85 FR 33198-99 (June 1, 2020). The complaint alleges violations of section 337 of the Tariff Act of 1930, as amended (19 U.S.C. 1337), based on the importation into the United States, the sale for importation, or the sale within the United States after importation of certain synthetic roofing underlayment products and components thereof by reason of infringement of certain claims of U.S. Patent No. 8,765,251. Id. at 33198. The complaint further alleges that a domestic industry exists. Id. The notice of investigation names eleven respondents: Atlas Roofing Corporation of Atlanta, Georgia; CertainTeed Corporation of Malvern, Pennsylvania; Dupont De Nemours, Inc. and E.I. Du Pont De Nemours and Company, both of Wilmington, Delaware; Epilay, Inc. of Carson, California; GAF Corporation of Parsippany, New Jersey; Owens Corning, Owens Corning Roofing & Asphalt, LLC, and InterWrap Corp., each of Toledo, Ohio; SCC of Issaquah, Washington; and TAMKO Building Products, LLC of Joplin, Missouri. Id. The Office of Unfair Import Investigations is not named as a party. Id.

On August 4, 2020, the Commission determined to amend the complaint and notice of investigation by substituting CertainTeed LLC for respondent CertainTeed Corporation and GAF Materials LLC for respondent GAF Corporation. Order No. 6 (July 14, 2020), unreviewed by 85 FR 47988 (Aug. 7, 2020). That same day, the Commission also determined to terminate the investigation as to CertainTeed Corporation and GAF Corporation based on good cause. Order No. 7 (July 14, 2020), unreviewed by Comm'n Notice (Aug. 4, 2020). On November 18, 2020, the Commission determined to terminate the investigation as to SCC based on settlement. Order No. 18 (Oct. 22, 2020), unreviewed by Comm'n Notice (Nov. 18, 2020).

On December 7, 2020, Kirsch filed an unopposed motion to terminate the investigation as to all respondents based on withdrawal of the complaint under Commission Rule 210.21(a)(1) (19 CFR 210.21(a)(1)). Kirsch's motion included a request to stay the procedural schedule pending termination of the investigation. Mot. at 3-4. No party responded to the motion.

On December 9, 2020, the ALJ issued the subject ID granting the unopposed motion. The ID finds that the motion complies with the requirements of Commission Rule 210.21(a)(1) (19 CFR 210.21(a)(1)); that the parties “appear to agree that there are no extraordinary circumstances” that would prevent termination; and that terminating the investigation “is in the public interest.” ID at 2-3. No petitions for review of the subject ID were filed.

The Commission has determined not to review the subject ID. This investigation is terminated in its entirety.

The Commission vote for this determination took place on December 21, 2020.

The authority for the Commission's determination is contained in section 337 of the Tariff Act of 1930, as amended (19 U.S.C. 1337), and in Part 210 of the Commission's Rules of Practice and Procedure (19 CFR part 210).

By order of the Commission.
Issued: December 22, 2020.
Lisa Barton,
Secretary to the Commission.

[FR Doc. 2020-28778 Filed 12-28-20; 8:45 am]

BILLING CODE 7020-02-P